DELAWARE RIVER BASIN COMMISSION

Notice of Public Hearing and Business Meeting November 10 and December 9, 2015

Correction

In notice document 2015-26837 beginning on page 63973 in the issue of Thursday, October 22, 2015 make the following correction:

1. On page 63973 in the third column, in the second paragraph, “The public hearing on November 10, 2015 will begin at 1:30 p.m.” should read “The public hearing on November 10, 2015 will begin at 10:30 a.m.”

[FR Doc. C1-2015-26837 Filed 10-28-15; 8:45 am]

BILLING CODE 1505-01-D